DEPARTMENT OF COMMERCE

International Trade Administration

[A-570-806]

Notice of Extension of Time Limit of Preliminary Results of New Shipper Review: Silicon Metal from the People's Republic of China

AGENCY: Import Administration, International Trade Administration, U.S. Department of Commerce.

SUMMARY: The Department of Commerce is extending the time limit of the preliminary results of the new shipper review of the antidumping duty order on silicon metal from the People's Republic of China (PRC) until no later than November 20, 2002. The period of review is June 1, 2001 through November 30, 2001. This extension is made pursuant to section 751(a)(2)(B)(iv) of the Tariff Act of 1930, as amended.

EFFECTIVE DATE: July 30, 2002.

FOR FURTHER INFORMATION CONTACT: Christian Hughes or Maureen Flannery, AD/CVD Enforcement, Import Administration, International Trade Administration, U.S. Department of Commerce, 14th Street and Constitution Avenue, NW., Washington DC 20230; telephone: (202) 482-0648 or (202) 482-3020, respectively.

SUPPLEMENTARY INFORMATION:

Applicable Statutes and Regulations

Unless otherwise indicated, all citations to the statute are references to the provisions of the Tariff Act of 1930, as amended (the Act). In addition, unless otherwise indicated, all citations to the Department's regulations are to the provisions codified at 19 CFR Part 351 (2001).

Statutory Time Limits

Section 751(a)(2)(B)(iv) of the Act requires the Department to issue the preliminary results of a new shipper review within 180 days from the date of initiation of the review. However, if the Department determines that the case is extraordinarily complicated, section 751(a)(2)(B)(iv) of the Act allows the Department to extend this deadline to a maximum of 300 days.

Background

On December 31, 2001, the Department received a timely request from China Shanxi Province Lin Fen Prefecture Foreign Trade Import and Export Corp. (Lin Fen), in accordance with section 751(a)(2)(ii) of the Act and 19 CFR 351.214(c), for a new shipper review of the antidumping duty order on silicon metal from the PRC. See Antidumping Duty Order: Silicon Metal From the People's Republic of China, 56 FR 26649 (June 10, 1991). Because the request met all of the requirements set forth in section 751(a)(2)(ii) of the Act and section 351.214(d) of the regulations, we initiated a new shipper review of the antidumping duty order on silicon metal from the PRC for the period June 1, 2001 to November 30, 2001. On January 31, 2002, the Department initiated this new shipper review (67 FR 5966).

Extension of Time Limits for Preliminary Results

Due to the extraordinarily complicated nature of this case, we are unable to complete this review within the time limits mandated by section 751(a)(2)(B)(iv) of the Act and 19 CFR 351.214 (i). In particular, the Department needs additional time in which to address the issues of Lin Fen's relationship with other companies, and whether Lin Fen should be given a separate rate. Furthermore, the Department requires additional time to gather surrogate value information. Therefore, in accordance with section 751(a)(2)(B)(iv) of the Act and 19 CFR 351.214 (i) (2), the Department is extending the time limit for the completion of preliminary results. These preliminary results will now be due no later than November 20, 2002.

This notice is issued and published pursuant to sections 751(a)(1) and 777 (i) (1) of the Act.

Dated: July 23, 2002
Barbara E. Tillman,
Acting Deputy Assistant Secretary for Import Administration, Group III.

[FR Doc. 02-19234 Filed 7-29-02; 8:45 am]

BILLING CODE 3510-DS-S